DEPARTMENT OF HEALTH AND HUMAN SERVICES

Food and Drug Administration

21 CFR Parts 174, 175, and 177

[Docket No. FDA-2022-F-1108]

Environmental Defense Fund, Maricel Maffini, Breast Cancer Prevention Partners, Clean Water Action/Clean Water Fund, Consumer Reports, Endocrine Society, Environmental Working Group, Healthy Babies Bright Futures, Linda Birnbaum, and the Nicholas School of the Environment at Duke University; Filing of Food Additive Petition; Correction

AGENCY: Food and Drug Administration, HHS.

ACTION: Notification of petition; correction.

SUMMARY: The Food and Drug Administration (FDA or we) is correcting a notification that appeared in the Federal Register of July 11, 2022. The notification contained errors in the subject heading and list of petitioners. This document corrects the errors.

DATES: This notification of petition correction is effective October 27, 2022.

FOR FURTHER INFORMATION CONTACT: Marissa Santos, Office of Food Additive Safety (HFS-255), Center for Food Safety and Applied Nutrition, Food and Drug Administration, 5001 Campus Dr., College Park, MD 20740, 240-402-8160; or Carrol Bascus, Office of Regulations and Policy (HFS-024), Center for Food Safety and Applied Nutrition, Food and Drug Administration, 5001 Campus Dr., College Park, MD 20740, 240-402-2378.

SUPPLEMENTARY INFORMATION: In the Federal Register of July 11, 2022 (87 FR 41079), in FR Doc. 2022-14682, appearing on page 41079, the following corrections are made:

On page 41079, all instances of “the Nicholas School of the Environment at Duke University” and “Clean Water Fund” are removed, and the location of “Maricel Maffini” is revised in the list of petitioners in the subject heading. The subject heading of the notification is updated to read as follows: “Environmental Defense Fund, Breast Cancer Prevention Partners, Clean Water Action, Consumer Reports, Endocrine Society, Environmental Working Group, Healthy Babies Bright Futures, Maricel Maffini, and Linda Birnbaum; Filing of Food Additive Petition”.

On page 41079, “the Nicholas School of the Environment at Duke University” and “Clean Water Fund” are removed from the list of petitioners and the location of “Maricel Maffini” is revised in the SUMMARY (1st column), ADDRESSES (2nd column, Instructions paragraph), and Background (3rd column, 1st paragraph) sections to read as follows: “Environmental Defense Fund, Breast Cancer Prevention Partners, Clean Water Action, Consumer Reports, Endocrine Society, Environmental Working Group, Healthy Babies Bright Futures, Maricel Maffini, and Linda Birnbaum”.

Dated: October 20, 2022.
Lauren K. Roth,
Associate Commissioner for Policy.

[FR Doc. 2022-23384 Filed 10-26-22; 8:45 am]

BILLING CODE 4164-01-P